DEPARTMENT OF VETERANS AFFAIRS

38 CFR Part 36

[Docket No. VA-2022-VBA-0023]

RIN 2900-AR78

Loan Guaranty: Loss-Mitigation Options for Guaranteed Loans

AGENCY: Department of Veterans Affairs.

ACTION: Advance notice of proposed rulemaking; withdrawal.

SUMMARY: The Department of Veterans Affairs (VA) is withdrawing the advance notice of proposed rulemaking (ANPRM) published in the Federal Register on October 17, 2022, that requested public comment on expanding VA's incentivized loss-mitigation options available to servicers that assist veterans whose VA-guaranteed loans are in default. VA is withdrawing this ANPRM because of ongoing assessments of agency needs, priorities, and objectives. VA will continue to explore opportunities to assist veterans who face home loan default.

DATES: The ANPRM published at 87 FR 62752 on October 17, 2022, is withdrawn as of January 21, 2026.

ADDRESSES: The docket for this withdrawn proposed rule is available at www.regulations.gov/docket/VA-2022-VBA-0023.

FOR FURTHER INFORMATION CONTACT: Andrew Trevayne and Stephanie Li, Assistant Directors, Loan Guaranty Service, Veterans Benefits Administration, (202) 632-8862.

SUPPLEMENTARY INFORMATION: In a document published in the Federal Register on October 17, 2022, VA described how it was exploring the possibility of changes to its incentivized loss-mitigation options and requested public comment on whether expanding VA's incentivized loss-mitigation tools, outlined in the Code of Federal Regulations (CFR) at 38 CFR 36.4319, might further assist veterans who have VA-backed loans to retain their homes. 87 FR 62752. VA anticipated incorporating responses into a proposed rulemaking amending VA's loss-mitigation regulations.

VA is withdrawing the ANPRM because of ongoing assessments of agency needs, priorities, and objectives. VA appreciates the public comments submitted and continues to consider the best means of addressing some or all of the issues covered in the ANPRM. If, in the future, VA decides it is appropriate to issue regulations on this topic, VA will do so through a new notice of proposed rulemaking, subject to the requirements of the Administrative Procedure Act, 5 U.S.C. 551, et seq.

Signing Authority

Douglas A. Collins, Secretary of Veterans Affairs, approved this document on December 17, 2025, and authorized the undersigned to sign and submit the document to the Office of the Federal Register for publication electronically as an official document of the Department of Veterans Affairs.

Taylor N. Mattson,
Alternate Federal Register Liaison Officer, Department of Veterans Affairs.

[FR Doc. 2026-01082 Filed 1-20-26; 8:45 am]

BILLING CODE 8320-01-P